NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

DATES: November 6, 2025 to February 28, 2026.

FOR FURTHER INFORMATION CONTACT: Andrew Titmus, ACA Permit Officer, Office of Polar Programs, National Science Foundation, 2415 Eisenhower Avenue, Alexandria, VA 22314; 703-292-4479; email: ACApermits@nsf.gov.

SUPPLEMENTARY INFORMATION: The National Science Foundation, as directed by the Antarctic Conservation Act of 1978 (Pub. L. 95-541, 16 U.S.C. 2401 et seq.), as amended by the Antarctic Science, Tourism and Conservation Act of 1996 (Pub. L. 104-227), has developed regulations (45 CFR parts 670 to 674) for the establishment of a permit system for various activities in Antarctica related to the designation of certain animals and certain geographic areas as requiring special protection, among other purposes.

Description of Permit Modification Requested: The Foundation issued a permit (ACA 2021-008) to Michael Gooseff on March 22, 2021. The issued permit allows the applicant to enter Antarctic Specially Protected Areas (ASPA) 131 and 172 (45 CFR 670) in association with ongoing stream flow and water quality research as a part of the McMurdo Dry Valleys Long Term Ecological Research (LTER) site. The permit allows for access to ASPA 172 to continue measurements of the Santa Fe stream including stream-flow using velocity meters, pH, temperature, and conductivity via meters, and collection of water quality samples.

The applicant proposes a modification to the permit to study subsurface water movement under the Lower Taylor Glacier by accessing the sub-aerial component of ASPA 172 to deploy up to eight SmartSolo IGU-16HR 3C geophones on the glacier's surface. Each instrument has a footprint of approximately 4 inches x 4 inches and would be attached to the glacier's surface by hand-auguring one 8-inch deep and 6-inch wide hole per instrument and affixing with spikes within the hole. The instruments contain an internal lithium-ion battery for power. The instruments would be deployed in November 2025 and retrieved in December 2025. All required biosecurity protocols for entering the sub-aerial component of the ASPA would be followed, including sterilizing footwear and equipment prior to entry and the use of sterile, protective over-clothing.

The ACA Permit Officer has reviewed the modification request and has determined that the amendment is not a material change to the permit, and that the permitted work will have a less than a minor or transitory impact.

The permit modification was issued on November 6, 2025

Jean C. Allen,
Office Director, Office of Polar Programs.

[FR Doc. 2025-20321 Filed 11-18-25; 8:45 am]

BILLING CODE 7555-01-P